FEDERAL ELECTION COMMISSION

Sunshine Act Meeting; Notices

Previously Scheduled Date & time: Thursday, July 13, 2006, meeting open to the public. This meeting was cancelled.

Date & Time: Tuesday, July 18 and Wednesday, July 19, 2006 at 10 a.m.

Place: 999 E Street, NW., Washington, DC.

Status: This meeting will be closed to the public.

Items to be Discussed:

Compliance matters pursuant to 2 U.S.C. 437g.

Audits conducted pursuant to 2 U.S.C. 437g, 438(b), and Title 26 U.S.C.

Matters concerning participation in civil actions or proceedings or arbitration.

Internal personnel rules and procedures or matters affecting a particular employee.

Date and Time: Thursday, July 20, 2006 at 10 a.m.

Place: 999 E Street, NW., Washington, DC (ninth floor).

Status: This meeting will be open to the public.

Items to be Discussed:

Correction and Approval of Minutes.

Advisory Opinion 2006-20: Unity 08 by counsel, John J. Duffy.

Report of the Audit Division on the New Democrat Network.

Routine Administrative Matters.

FOR FURTHER INFORMATION CONTACT: Mr. Robert Biersack, Press Officer, Telephone: (202) 694-1220.

Mary W. Dove,
Secretary of the Commission.

[FR Doc. 06-6240 Filed 7-11-06; 2:57 pm]

BILLING CODE 6715-01-M